ENVIRONMENTAL PROTECTION AGENCY

[EPA-HQ-OPP-2011-0855; FRL-11667-01-OCSPP]

EPA Document in Support of the Paraquat Interim Registration Review Decision; Notice of Availability

AGENCY: Environmental Protection Agency (EPA).

ACTION: Notice.

SUMMARY: In July 2021, the Environmental Protection Agency (EPA or the Agency) completed the Paraquat Dichloride Interim Registration Review Decision (Paraquat ID). The Paraquat ID finalized certain portions of EPA's analysis of paraquat's risks and benefits and determined that certain mitigation measures were necessary for paraquat to meet the Federal Insecticide, Fungicide, and Rodenticide Act (FIFRA) standard for registration. In September 2021, the California Rural Legal Assistance Foundation, et al. (Petitioners) filed a Petition for Review of the Paraquat ID in the U.S. Court of Appeals for the Ninth Circuit. As part of that litigation, EPA has further considered several substantive issues raised by the Petitioners in relation to the Paraquat ID, including concerns related to human health and EPA's balancing of risks and benefits. This document announces the availability of and solicits public comment on a document that presents EPA's preliminary reconsideration of the issues raised by Petitioners in relation to the Paraquat ID.

DATES: Comments must be received on or before April 1, 2024.

ADDRESSES: Submit your comments, identified by docket identification (ID) number EPA-HQ-OPP-2011-0855, online through https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Alex Hazlehurst, Pesticide Re-Evaluation Division (7508M), Office of Pesticide Programs, Environmental Protection Agency, 1200 Pennsylvania Ave. NW, Washington, DC 20460-0001; telephone number: (202) 566-2249; email address: hazlehurst.alexander@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting comments, see the commenting tips at https://www.epa.gov/dockets/comments.html.

II. What action is the Agency taking?

This notice announces the availability of a document outlining the Agency's preliminary reconsideration of the several issues identified by Petitioners in relation to the Paraquat ID. See California Rural Legal Assistance Foundation, et al. v. USEPA, Case No. 21-71287 (9th Cir.) Those issues include concerns raised about the Agency's assessment of whether paraquat poses a risk of Parkinson's Disease; its analysis of respiratory and dermal exposures, as well as exposures to direct and indirect paraquat drift; the analysis of benefits; the consideration of health-related costs; and the required balancing of paraquat's risks and benefits. This document, titled “EPA'S Preliminary Supplemental Consideration of Certain Issues in Support of its Interim Registration Review Decision for Paraquat,” is available in the docket at https://www.regulations.gov, under docket number EPA-HQ-OPP-2011-0855.

The Agency will review and consider all significant comments on this document that are submitted during the public comment period. Following EPA's consideration of those comments, EPA intends to issue a final document (or documents) by January 17, 2025, consistent with its obligations in the pending litigation.

Authority: 7 U.S.C. 136 et seq.

Dated: January 25, 2024.
Edward Messina,
Director, Office of Pesticide Programs.

[FR Doc. 2024-01950 Filed 1-30-24; 11:15 am]

BILLING CODE 6560-50-P